NUCLEAR REGULATORY COMMISSION

10 CFR Part 72

[NRC-2016-0254]

RIN 3150-AJ88

List of Approved Spent Fuel Storage Casks: TN Americas LLC, NUHOMS® EOS Dry Spent Fuel Storage System, Certificate of Compliance No. 1042

AGENCY: Nuclear Regulatory Commission.

ACTION: Direct final rule.

SUMMARY: The U.S. Nuclear Regulatory Commission (NRC) is amending its spent fuel storage regulations by adding the TN Americas LLC (TN Americas), NUHOMS® Extended Optimized Storage (EOS) Dry Spent Fuel Storage System, to the “List of approved spent fuel storage casks” as Certificate of Compliance (CoC) No. 1042. The NUHOMS® EOS System provides horizontal storage of high burnup spent pressurized water reactor (PWR) and boiling water reactor (BWR) fuel assemblies in dry shielded canisters (DSCs).

DATES: The direct final rule is effective June 7, 2017, unless significant adverse comments are received by April 24, 2017. If the direct final rule is withdrawn as a result of such comments, timely notice of the withdrawal will be published in the Federal Register. Comments received after this date will be considered if it is practical to do so, but the Commission is able to ensure consideration only for comments received on or before this date. Comments received on this direct final rule will also be considered to be comments on a companion proposed rule published in the Proposed Rules section of this issue of the Federal Register.

ADDRESSES: You may submit comments by any of the following methods:

• Federal Rulemaking Web site: Go to http://www.regulations.gov and search for Docket ID NRC-2016-0254. Address questions about NRC dockets to Carol Gallagher; telephone: 301-415-3463; email: Carol.Gallagher@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Edward Lohr, Office of Nuclear Material Safety and Safeguards, U.S. Nuclear Regulatory Commission, Washington, DC 20555-0001; telephone: 301-415-0253; email: Edward.Lohr@nrc.gov.

SUPPLEMENTARY INFORMATION:

Table of Contents

I. Obtaining Information and Submitting Comments

II. Rulemaking Procedure

III. Background

IV. Discussion of Changes

V. Voluntary Consensus Standards

VI. Agreement State Compatibility

VII. Plain Writing

VIII. Environmental Assessment and Finding of No Significant Environmental Impact

IX. Paperwork Reduction Act Statement

X. Regulatory Flexibility Certification

XI. Regulatory Analysis

XII. Backfitting and Issue Finality

XIII. Congressional Review Act

XIV. Availability of Documents

I. Obtaining Information and Submitting Comments

A. Obtaining Information

Please refer to Docket ID NRC-2016-0254 when contacting the NRC about the availability of information for this action. You may obtain publicly-available information related to this action by any of the following methods:

• Federal Rulemaking Web site: Go to http://www.regulations.gov and search for Docket ID NRC-2016-0254.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

B. Submitting Comments

Please include Docket ID NRC-2016-0254 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

This rule is limited to the addition of CoC No. 1042 to the “List of approved spent fuel storage casks.” The NRC is using the “direct final rule procedure” because the TN Americas NUHOMS® EOS Dry Spent Fuel Storage System is similar to other previously approved spent fuel storage cask systems and, therefore, is expected to be noncontroversial. Adequate protection of public health and safety continues to be ensured. The addition will become effective on June 7, 2017. However, if the NRC receives significant adverse comments on this direct final rule by April 24, 2017, then the NRC will publish a document that withdraws this action and will subsequently address the comments received in a final rule as a response to the companion proposed rule published in the Proposed Rules section of this issue of the Federal Register. Absent significant modifications to the proposed amendment and revisions requiring republication, the NRC will not initiate a second comment period on this action.

A significant adverse comment is a comment where the commenter explains why the rule would be inappropriate, including challenges to the rule's underlying premise or approach, or would be ineffective or unacceptable without a change. A comment is adverse and significant if:

(1) The comment opposes the rule and provides a reason sufficient to require a substantive response in a notice-and-comment process. For example, a substantive response is required when:

(a) The comment causes the NRC staff to reevaluate (or reconsider) its position or conduct additional analysis;

(b) The comment raises an issue serious enough to warrant a substantive response to clarify or complete the record; or

(c) The comment raises a relevant issue that was not previously addressed or considered by the NRC staff.

(2) The comment proposes a change or an addition to the rule, and it is apparent that the rule would be ineffective or unacceptable without incorporation of the change or addition.

(3) The comment causes the NRC staff to make a change (other than editorial) to the rule, CoC, or technical specifications (TSs).

For detailed instructions on filing comments, please see the companion proposed rule published in the Proposed Rules section of this issue of the Federal Register.

III. Background

Section 218(a) of the Nuclear Waste Policy Act (NWPA) of 1982, as amended, requires that “the Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the NWPA states, in part, that “[the Commission] shall, by rule, establish procedures for the licensing of any technology approved by the Commission under Section 219(a) [sic: 218(a)] for use at the site of any civilian nuclear power reactor.”

To implement this mandate, the Commission approved dry storage of spent nuclear fuel in NRC-approved casks under a general license by publishing a final rule which added a new subpart K in part 72 of title 10 of the Code of Federal Regulations (10 CFR) entitled, “General License for Storage of Spent Fuel at Power Reactor Sites” (55 FR 29181; July 18, 1990). This rule also established a new subpart L in 10 CFR part 72 entitled, “Approval of Spent Fuel Storage Casks,” which contains procedures and criteria for obtaining NRC approval of spent fuel storage cask designs.

IV. Discussion of Changes

On December 19, 2014, AREVA Inc. (AREVA) submitted an application to the NRC to approve the NUHOMS® EOS Dry Spent Fuel Storage System, CoC No. 1042. After discussions with the NRC and an internal evaluation of the submitted information, AREVA withdrew the application on April 24, 2015. AREVA resubmitted the application for the NUHOMS® EOS Dry Spent Fuel Storage System, CoC No. 1042 to the NRC on June 16, 2015. AREVA supplemented its request on the following dates: July 30, 2015, December 18, 2015, April 7, 2016, June 13, 2016, and July 28, 2016. On November 18, 2016, AREVA notified the NRC that it had changed its name to TN Americas.

The TN Americas NUHOMS® EOS System provides horizontal storage of high burnup spent PWR and BWR fuel assemblies in DSCs that are placed in an EOS horizontal storage module (HSM) utilizing an EOS transfer cask (TC). The new PWR and BWR DSCs are the EOS-37PTH DSC and the EOS-89BTH DSC, respectively. The NUHOMS® EOS System is an improved version of the NUHOMS® HD System described in CoC No. 1030.

As documented in the Preliminary Safety Evaluation Report (PSER) for TN Americas NUHOMS® EOS Dry Spent Fuel Storage System, CoC No. 1042, the NRC staff performed a detailed safety evaluation of the proposed CoC request submitted by TN Americas. The staff evaluated the specific design requirements for each accident condition and concluded that the design of the cask will prevent loss of containment, shielding, and criticality control. Therefore, the environmental impacts of these actions would be insignificant. In addition, any resulting occupational exposure or offsite dose rates from the use of the TN Americas NUHOMS® EOS Dry Spent Fuel Storage System, CoC No. 1042 is well within the 10 CFR part 20 limits. Therefore, use of this new cask system will not result in radiological or non-radiological environmental impacts that differ significantly from the environmental impacts evaluated in the environmental assessment supporting the July 18, 1990, final rule. There will be no significant change in the types or significant revisions in the amounts of any effluent released, no significant increase in the individual or cumulative radiation exposure, and no significant increase in the potential for consequences from radiological accidents.

This direct final rule amends 10 CFR 72.214 by adding the TN Americas NUHOMS® EOS Dry Spent Fuel Storage System, CoC No. 1042. The term “Amendment 0” used in the supporting documents for this direct final rulemaking and the term “Initial Certificate” used in 10 CFR 72.214 describe the same document. Initial Certificate is the correct term and will be used henceforth when discussion involves this document.

The TN Americas NUHOMS® EOS Dry Spent Fuel Storage System, when used under the conditions specified in the CoC, the TSs, and the NRC's regulations, will meet the requirements of 10 CFR part 72; therefore, adequate protection of public health and safety will continue to be ensured. When this direct final rule becomes effective, persons who hold a general license under 10 CFR 72.210 may load spent nuclear fuel into TN Americas NUHOMS® EOS Dry Spent Fuel Storage Systems that meet the criteria of CoC No. 1042 under 10 CFR 72.212.

V. Voluntary Consensus Standards

The National Technology Transfer and Advancement Act of 1995 (Pub. L. 104-113) requires that Federal agencies use technical standards that are developed or adopted by voluntary consensus standards bodies, unless the use of such a standard is inconsistent with applicable law or otherwise impractical. In this direct final rule, the NRC will add the TN Americas NUHOMS® EOS Dry Spent Fuel Storage System design to the listings in 10 CFR 72.214, “List of approved spent fuel storage casks.” This action does not constitute the establishment of a standard that contains generally applicable requirements.

VI. Agreement State Compatibility

Under the “Policy Statement on Adequacy and Compatibility of Agreement State Programs” approved by the Commission on June 30, 1997, and published in the Federal Register on September 3, 1997 (62 FR 46517), this rule is classified as Compatibility Category “NRC.” Compatibility is not required for Category “NRC” regulations. The NRC program elements in this category are those that relate directly to areas of regulation reserved to the NRC by the Atomic Energy Act of 1954, as amended, or the provisions of 10 CFR. Although an Agreement State may not adopt program elements reserved to the NRC, it may wish to inform its licensees of certain requirements via a mechanism that is consistent with the particular State's administrative procedure laws, but does not confer regulatory authority on the State.

VII. Plain Writing

The Plain Writing Act of 2010 (Pub. L. 111-274) requires Federal agencies to write documents in a clear, concise, and well-organized manner. The NRC has written this document to be consistent with the Plain Writing Act as well as the Presidential Memorandum, “Plain Language in Government Writing,” published June 10, 1998 (63 FR 31883).

VIII. Environmental Assessment and Finding of No Significant Environmental Impact

A. The Action

The action is to amend 10 CFR 72.214 to add the TN Americas NUHOMS® EOS Dry Spent Fuel Storage System to the listing within the “List of approved spent fuel storage casks” as CoC No. 1042. Under the National Environmental Policy Act of 1969, as amended, and the NRC's regulations in subpart A of 10 CFR part 51, “Environmental Protection Regulations for Domestic Licensing and Related Regulatory Functions,” the NRC has determined that this rule, if adopted, would not be a major Federal action significantly affecting the quality of the human environment and, therefore, an environmental impact statement is not required. The NRC has made a finding of no significant impact on the basis of this environmental assessment.

B. The Need for the Action

This direct final rule adds CoC No. 1042 for the TN Americas NUHOMS® EOS Dry Spent Fuel Storage System design within the list of approved spent fuel storage casks that power reactor licensees can use to store spent fuel at reactor sites under a general license. Specifically, the TN Americas NUHOMS® EOS System provides horizontal storage of high burnup PWR and BWR spent fuel assemblies in DSCs that are placed in an EOS HSM utilizing an EOS TC.

C. Environmental Impacts of the Action

On July 18,1990 (55 FR 29181), the NRC issued an amendment to 10 CFR part 72 to provide for the storage of spent fuel under a general license in cask designs approved by the NRC. The potential environmental impact of using NRC-approved storage casks was initially analyzed in the environmental assessment for the 1990 final rule. The environmental assessment for this CoC addition tiers off of the environmental assessment for the July 18, 1990, final rule. Tiering on past environmental assessments is a standard process under the National Environmental Policy Act.

The TN Americas NUHOMS® EOS System is designed to mitigate the effects of design basis accidents that could occur during storage. Design basis accidents account for human-induced events and the most severe natural phenomena reported for the site and surrounding area. Postulated accidents analyzed for an independent spent fuel storage installation, the type of facility at which a holder of a power reactor operating license would store spent fuel in casks in accordance with 10 CFR part 72, include tornado winds and tornado-generated missiles, a design basis earthquake, a design basis flood, an accidental cask drop, lightning effects, fire, explosions, and other incidents.

Considering the specific design requirements for each accident condition, the design of the TN Americas NUHOMS® EOS System cask would prevent loss of confinement, shielding, and criticality control. If there is no loss of confinement, shielding, or criticality control, the environmental impacts would be insignificant. In addition, any resulting occupational exposure or offsite dose rates from the use of the TN Americas NUHOMS® EOS Dry Spent Fuel Storage System, CoC No. 1042 would be well within the 10 CFR part 20 limits. Therefore, the proposed addition of CoC No. 1042 will not result in any radiological or non-radiological environmental impacts that significantly differ from the environmental impacts evaluated in the environmental assessment supporting the July 18, 1990, final rule. There will be no significant change in the types or significant revisions in the amounts of any effluent released, no significant increase in the individual or cumulative radiation exposure, and no significant increase in the potential for or consequences from radiological accidents. The staff documented its safety findings in the PSER.

D. Alternative to the Action

The alternative to this action is to withhold approval of this new design and issue a site-specific license to each utility that proposes to use the casks. This alternative would cost both the NRC and utilities more time and money for each site-specific license. Conducting site-specific reviews would ignore the procedures and criteria currently in place for the addition of new cask designs that can be used under a general license, and would be in conflict with NWPA direction to the Commission to approve technologies for the use of spent fuel storage at the sites of civilian nuclear power reactors without, to the maximum extent practicable, the need for additional site reviews. This alternative also would tend to exclude new vendors from the business market without cause and would arbitrarily limit the choice of cask designs available to power reactor licensees. This final rule will eliminate the above problems and is consistent with previous Commission actions. Further, the rule will have no adverse effect on public health and safety. Therefore, the environmental impacts would be the same or less than the action.

E. Alternative Use of Resources

Approval of the addition of CoC No. 1042 to 10 CFR 72.214 would result in no irreversible commitments of resources.

F. Agencies and Persons Contacted

No agencies or persons outside the NRC were contacted in connection with the preparation of this environmental assessment.

G. Finding of No Significant Impact

The environmental impacts of the action have been reviewed under the requirements in 10 CFR part 51. Based on the foregoing environmental assessment, the NRC concludes that this direct final rule entitled, “List of Approved Spent Fuel Storage Casks: TN Americas LLC, NUHOMS® EOS Dry Spent Fuel Storage System, Certificate of Compliance No. 1042,” will not have a significant effect on the human environment. Therefore, the NRC has determined that an environmental impact statement is not necessary for this direct final rule.

IX. Paperwork Reduction Act Statement

This final rule does not contain any new or amended collections of information subject to the Paperwork Reduction Act of 1995 (44 U.S.C. 3501 et seq.). Existing collections of information were approved by the Office of Management and Budget (OMB), approval number 3150-0132.

Public Protection Notification

The NRC may not conduct or sponsor, and a person is not required to respond to, a collection of information unless the document requesting or requiring the collection displays a currently valid OMB control number.

X. Regulatory Flexibility Certification

Under the Regulatory Flexibility Act of 1980 (5 U.S.C. 605(b)), the NRC certifies that this rule will not, if issued, have a significant economic impact on a substantial number of small entities. This direct final rule affects only nuclear power plant licensees and TN Americas. These entities do not fall within the scope of the definition of small entities set forth in the Regulatory Flexibility Act or the size standards established by the NRC (10 CFR 2.810).

XI. Regulatory Analysis

On July 18, 1990 (55 FR 29181), the NRC issued an amendment to 10 CFR part 72 to provide for the storage of spent nuclear fuel under a general license in cask designs approved by the NRC. Any nuclear power reactor licensee can use NRC-approved cask designs to store spent nuclear fuel if it notifies the NRC in advance, the spent fuel is stored under the conditions specified in the cask's CoC, and the conditions of the general license are met. A list of NRC-approved cask designs is contained in 10 CFR 72.214.

By letter dated June 16, 2015, as supplemented on July 30, 2015, December 18, 2015, April 7, 2016, June 13, 2016, and July 28, 2016, TN Americas resubmitted an application to the NRC to add the NUHOMS® EOS Dry Spent Fuel Storage System, CoC No. 1042 to 10 CFR 72.214. This request is described in Section IV, “Discussion of Changes,” of this document.

The alternative to this action is to withhold approval of this new design and issue a site-specific license to each utility that proposes to use the casks. Conducting site-specific reviews would ignore the procedures and criteria currently in place for the addition of new cask designs that can be used under a general license, and would be in conflict with NWPA direction to the Commission to approve technologies for the use of spent fuel storage at the sites of civilian nuclear power reactors without, to the maximum extent practicable, the need for additional site reviews. This alternative would cost both the NRC and utilities more time and money for each site-specific license. This alternative also would tend to exclude new vendors from the business market without cause and would arbitrarily limit the choice of cask designs available to power reactor licensees. This final rule will avoid the above problems and is consistent with previous Commission actions. Further, the rule will have no adverse effect on public health and safety.

Approval of the direct final rule is consistent with previous NRC actions. Further, as documented in the PSER and the environmental assessment, the direct final rule will have no adverse effect on public health and safety or the environment. This direct final rule has no significant identifiable impact or benefit on other government agencies. Based on this regulatory analysis, the NRC concludes that the requirements of the direct final rule are commensurate with the NRC's responsibilities for public health and safety and the common defense and security. No other available alternative is believed to be as satisfactory, and therefore, this action is recommended.

XII. Backfitting and Issue Finality

The NRC has determined that the backfit rule (10 CFR 72.62) does not apply to this direct final rule and therefore, a backfit analysis is not required. This direct final rule adds CoC No. 1042 for the NUHOMS® EOS Dry Spent Fuel Storage System to the “List of approved spent fuel storage casks.”

The addition of CoC No. 1042 for the NUHOMS® EOS Dry Spent Fuel Storage System was initiated by TN Americas and was not submitted in response to new NRC requirements, or an NRC request for amendment. The addition of CoC No. 1042 does not constitute backfitting under 10 CFR 72.62, 10 CFR 50.109(a)(1), or otherwise represent an inconsistency with the issue finality provisions applicable to combined licenses in 10 CFR part 52. Accordingly, no backfit analysis or additional documentation addressing the issue finality criteria in 10 CFR part 52 has been prepared by the staff.

XIII. Congressional Review Act

The OMB has not found this to be a rule as defined in the Congressional Review Act.

XIV. Availability of Documents

The documents identified in the following table are available to interested persons as indicated.

Document | ADAMS accession No.
AREVA Application for Approval of the Spent Fuel Cask Design for the NUHOMS® EOS System, Docket 72-1042, letter dated December, 19, 2014 (original application) | ML15005A477 (Package).
Withdrawal of December 19, 2014 AREVA Application for Approval of the Spent Fuel Cask Design for the NUHOMS® EOS System, Docket 72-1042, letter dated April 24, 2015 | ML15114A444.
Re-submittal of AREVA Application for Approval of the Spent Fuel Cask Design for the NUHOMS® EOS System, CoC No. 1042, letter dated June 16, 2015 * | ML15173A379 (Package).
Safety Evaluation Report for AREVA NUHOMS® HD Horizontal Modular Storage System, CoC No. 1030 | ML070160089.
AREVA Submittal of Additional Information Related to Application for Approval of the Spent Fuel Cask Design for the NUHOMS® EOS System, CoC No. 1042, letter dated July 30, 2015 * | ML15223A204.
NRC Request for Additional Information Related to AREVA Application for Approval of the Spent Fuel Cask Design for the NUHOMS® EOS System, CoC No. 1042, letter dated October 16, 2015 * | ML15287A255 (Package).
AREVA Response to NRC Request for Additional Information Related to Application for Approval of the Spent Fuel Cask Design for the NUHOMS® EOS System, CoC No. 1042, letter dated December 18, 2015 * | ML15364A490 (Package).
NRC Request for Additional Information Related to AREVA Application for Approval of the Spent Fuel Cask Design for the NUHOMS® EOS System, CoC No. 1042, letter dated March 3, 2016 * | ML16063A454 (Package).
AREVA Response to NRC Request for Additional Information Related to Application for Approval of the Spent Fuel Cask Design for the NUHOMS® EOS System, CoC No. 1042, letter dated April 7, 2016 * | ML16111A670 (Package).
AREVA Submittal of Additional Information Related to Application for Approval of the Spent Fuel Cask Design for the NUHOMS® EOS System, CoC No. 1042, letter dated June 13, 2016 * | ML16169A044 (Package).
AREVA Submittal of Additional Information Related to Application for Approval of the Spent Fuel Cask Design for the NUHOMS® EOS System, CoC No. 1042, letter dated July 28, 2016 * | ML16215A026 (Package).
Name Change from AREVA to TN Americas, letter dated November 18, 2016 * | ML16327A011.
Preliminary Safety Evaluation Report for TN Americas NUHOMS® EOS System, CoC No. 1042 * | ML16242A023.
Technical Specifications for TN Americas NUHOMS® EOS System, CoC No. 1042 * | ML16242A022.
* The term “Amendment 0” used in the supporting documents for this direct final rulemaking and the term “Initial Certificate” used in 10 CFR 72.214 describes the same document. Initial Certificate is the correct term and will be used henceforth when discussion involves this document.

The NRC may post materials related to this document, including public comments, on the Federal Rulemaking Web site at http://www.regulations.gov under Docket ID NRC-2016-0254. The Federal Rulemaking Web site allows you to receive alerts when changes or additions occur in a docket folder. To subscribe: (1) Navigate to the docket folder (NRC-2016-0254); (2) click the “Sign up for Email Alerts” link; and (3) enter your email address and select how frequently you would like to receive emails (daily, weekly, or monthly).

List of Subjects in 10 CFR Part 72

Administrative practice and procedure, Criminal penalties, Hazardous waste, Indians, Intergovernmental relations, Manpower training programs, Nuclear energy, Nuclear materials, Occupational safety and health, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendment to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance 1042 is added to read as follows:

§ 72.214 List of approved spent fuel storage casks.

* * * * *

Certificate Number: 1042.

Initial Certificate Effective Date: June 7, 2017.

SAR Submitted by: TN Americas LLC.

SAR Title: Final Safety Analysis Report for the NUHOMS® EOS Dry Spent Fuel Storage System.

Docket Number: 72-1042.

Certificate Expiration Date: March 24, 2037.

Model Number: EOS-37PTH, EOS-89BTH.

Dated at Rockville, Maryland, this 9th day of March 2017.
For the Nuclear Regulatory Commission.
Victor M. McCree,
Executive Director for Operations.

[FR Doc. 2017-05902 Filed 3-23-17; 8:45 am]

BILLING CODE 7590-01-P